DEPARTMENT OF COMMERCE

National Oceanic and Atmospheric Administration

RIN 0648-XE053

New England Fishery Management Council; Public Meetings

AGENCY: National Marine Fisheries Service (NMFS), National Oceanic and Atmospheric Administration (NOAA), Commerce.

ACTION: Notice; public hearings.

SUMMARY: The New England Fishery Management Council (Council) will hold five public hearings and one webinar to solicit Public comments on Draft Amendment 18 to the Northeast Multispecies Fishery Management Plan (FMP).

DATES: The meetings will be held August 3-20, 2015. For specific dates and times see SUPPLEMENTARY INFORMATION. Written Public comments must be received on or before 5 p.m. EST, Friday, August 31, 2015.

ADDRESSES: The Public document can be obtained by contacting the New England Fishery Management Council, 50 Water Street, Mill 2, Newburyport, MA 01950 at (978) 465-0492 or on their Web site at www.nefmc.org.

Meeting addresses: The meetings will be held in Portland, ME, Portsmouth, NH, New Bedford, MA, Mystic, CT, Gloucester, MA and via webinar. For specific locations, see SUPPLEMENTARY INFORMATION.

Public comments: Mail to John K. Bullard, Regional Administrator, NMFS, Northeast Regional Office, 55 Great Republic Drive, Gloucester, MA 01930. Mark the outside of the envelope “DEIS for Amendment 18 to the Northeast Multispecies FMP”. Comments may also be sent via fax to 978-281-9135 or submitted via email to nmfs.gar.Amendment18@noaa.gov with “DIES for Amendment 18 to the Northeast Multispecies FMP” in the subject line.

FOR FURTHER INFORMATION CONTACT: Thomas Nies, Executive Director, New England Fishery Management Council; telephone: (978) 465-0492.

SUPPLEMENTARY INFORMATION: The agendas for the following six hearings are as follows: NEMFC staff will brief the public on the northeast multispecies amendments and the contents of the DEIS prior to opening the hearing for public comments. The schedule is as follows:

Public Hearings: Locations, Schedules, and Agendas

1. Monday, August 3, 2015, from 6-8 p.m.; Holiday Inn by the Bay, 88 Spring Street, Portland, ME 04101; telephone: (207) 775-2311.

2. Tuesday, August 4, 2015, from 6-8 p.m.; Best Western Plus Wynwood Hotel, 580 US Highway 1 Bypass, Portsmouth, NH 03801; telephone: (603) 436-7600.

3. Monday, August 10, 2015, from 6-8 p.m.; Fairfield Inn & Suites, 185 MacArthur Drive, New Bedford, MA 02740; telephone: (774) 634-2000.

4. Thursday, August 13, 2015, from 6-8 p.m.; Hyatt Place Hotel, 224 Greenmanville Avenue, Mystic, CT 06335; telephone: (860) 536-9997.

5. Tuesday, August 18, 2015, from 6-8 p.m.; Massachusetts Division of Marine Fisheries, Annisquam River Marine Fisheries Station, 30 Emerson Ave., Gloucester, MA 01930; telephone: (978) 282-0308.

6. Thursday, August 20, 2015, from 6-8 p.m.; Webinar hearing, register to participate https://attendee.gotowebinar.com/register/2899621437233775618. Call in info: Toll: +1 (702) 489-0003, Access code 211-601-302.

Special Accommodations

These meetings are physically accessible to people with disabilities. Requests for sign language interpretation or other auxiliary aids should be directed to Thomas Nies (see ADDRESSES), at least 5 working days prior to the meeting date.

Authority: 16 U.S.C. 1801 et seq.

Dated: July 14, 2015.
Tracey L. Thompson,
Acting Deputy Director, Office of Sustainable Fisheries, National Marine Fisheries Service.

[FR Doc. 2015-17591 Filed 7-16-15; 8:45 am]

BILLING CODE 3510-22-P